NATIONAL AERONAUTICS AND SPACE ADMINISTRATION

[Notice 04-152]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: December 29, 2004.

FOR FURTHER INFORMATION CONTACT: Dorothy C. Kerr, Acting Patent Counsel, Goddard Space Flight Center, Mail Code 503, Greenbelt, MD 20771-0001; telephone (301) 286-7351; fax (301) 286-9502.

NASA Case No. GSC-14473-2: Space-Based Internet Protocol System For Vehicle Tracking Systems Monitoring And Control;

NASA Case No. GSC-14681-1: Method And System For Eliminating Processing Artifacts In Recursive Grouping Operations;

NASA Case No. GSC-14796-1: Portable X-Ray Fluorescence Using Machine Source.

Dated: December 10, 2004.
Keith T. Sefton,
Deputy General Counsel, Administration and Management.

[FR Doc. 04-28512 Filed 12-28-04; 8:45 am]

BILLING CODE 7510-13-P